DEPARTMENT OF HEALTH AND HUMAN SERVICES (HHS)

Centers for Disease Control and Prevention

Board of Scientific Counselors, Office of Public Health Preparedness and Response, (BSC, OPHPR)

In accordance with section 10 (a)(2) of the Federal Advisory Committee Act (Pub. L. 92-463), the Centers for Disease Control and Prevention (CDC), announces the following meeting of the aforementioned committee:

Times and Dates:

10:00 a.m.-5:15 p.m., E.T., October 27, 2014

8:00 a.m.-4:15 p.m., E.T., October 28, 2014

Place: Centers for Disease Control and Prevention (CDC), Global Communications Center, Building 19, Auditorium B3, 1600 Clifton Road NE., Atlanta, Georgia 30333.

Status: Open to the public limited only by the space available. The meeting room will accommodate up to 90 people. Public participants should pre-register for the meeting as described in Additional Information for Public Participants. Members of the public that wish to attend this meeting should pre-register by submitting the following information by email, facsimile, or phone (see Contact Person for More Information) no later than 12:00 noon (EDT) on Monday, October 20, 2014:

• Full Name

• Organizational Affiliation

• Complete Mailing Address

• Citizenship

• Phone Number or Email Address

Purpose: This Board is charged with providing advice and guidance to the Secretary, Department of Health and Human Services (HHS), the Assistant Secretary for Health (ASH), the Director, Centers for Disease Control and Prevention (CDC), and the Director, Office of Public Health Preparedness and Response (OPHPR), concerning strategies and goals for the programs and research within OPHPR, monitoring the overall strategic direction and focus of the OPHPR Divisions and Offices, and administration and oversight of peer review of OPHPR scientific programs. For additional information about the Board, please visit: http://www.cdc.gov/phpr/science/counselors.htm.

Matters To Be Discussed: Day one of the meeting will cover briefings and BSC deliberation on the following topics: Interval updates from OPHPR Divisions and Offices; mental and behavioral health and emergency preparedness and response; and BSC liaison representative updates to the Board highlighting organizational activities relevant to the OPHPR mission.

Day two of the meeting will cover briefings and BSC deliberation on the following topics: Evolving capabilities of the Strategic National Stockpile, community resilience research updates, select agent regulations, social media and communication challenges during emergency response; National Health Security Preparedness Index Update; and OPHPR impact measurement.

Agenda items are subject to change as priorities dictate.

Contact Person for More Information: Marquita Black, Office of Science and Public Health Practice, Executive Assistant, Centers for Disease Control and Prevention, 1600 Clifton Road NE., Mailstop D-44, Atlanta, Georgia 30333, Telephone: (404) 639-7325; Facsimile: (404) 639-7977; Email: OPHPR.BSC.Questions@cdc.gov.

The Director, Management Analysis and Services Office, has been delegated the authority to sign Federal Register notices pertaining to announcements of meetings and other committee management activities for both the Centers for Disease Control and Prevention, and Agency for Toxic Substances and Disease Registry.

Claudette Grant,
Acting Director, Management Analysis and Services Office, Centers for Disease Control and Prevention.

[FR Doc. 2014-22531 Filed 9-22-14; 8:45 am]

BILLING CODE 4163-18-P